DEPARTMENT OF THE INTERIOR

Bureau of Land Management

[MT-030-1320-EL, NDM91535]

Notice of Availability of Coal Lease Final Environmental Impact Statement, North Dakota

AGENCY: Bureau of Land Management, Interior.

ACTION: Notice of Availability (NOA) of a Final Environmental Impact Statement (FEIS) on a Coal lease application received for Federal coal tracts in the West Mine Area, Freedom Mine, Mercer County, North Dakota; NDM91535.

SUMMARY: Under the National Environmental Policy Act (NEPA); provisions in the Mineral Leasing Act of 1920, as amended (30 U.S.C. 181 et seq.); implementing regulations and other applicable statutes the Bureau of Land Management (BLM) announces the availability of the Federal coal leasing FEIS.

The FEIS analyzes the impacts of issuing a Federal coal lease within the West Mine Area of the Freedom Mine, located in Mercer County, North Dakota, and includes 5571 acres of Federal coal.

DATES: Written comments on the FEIS will be accepted for 30 days following the date that the Environmental Protection Agency (EPA) publishes their NOA of the FEIS in the Federal Register. The BLM will notify all parties on the EIS mailing list of the dates when comments will be accepted.

ADDRESSES: Please address questions, comments, or concerns to the North Dakota Field Office, Bureau of Land Management, Attn: Allen J. Ollila, 2933 Third Avenue West, Dickinson, North Dakota 58601-2619, fax them to (701) 227-8510, or send e-mail comments to the attention of Allen J. Ollila at mtndfo@blm.gov. Copies of the FEIS are available for public inspection at local public libraries and at the following BLM office locations: External Affairs Office, Montana State Office, 5001 Southgate Drive, Billings, MT 59107; North Dakota Field Office, 2933 Third Avenue West, Dickinson, ND 58601-2619.

FOR FURTHER INFORMATION CONTACT: Allen J. Ollila or Lonny R. Bagley at the above address or telephone: (701) 227-7700.

SUPPLEMENTARY INFORMATION: On January 16, 2002, Coteau filed an application with BLM to lease Federal coal deposits beneath private surface at the following locations:

NDM91535

T. 144 N., R. 88 W., 5th P.M.

Sec. 2: Lots 3, 4, S½NW¼

Sec. 4: Lots 1, 2, S½NE¼, S½

Sec. 6: All

Sec. 8: N½NE¼, SE¼NE¼, NW¼, N½SW¼

T. 144 N., R. 89 W., 5th P.M.

Sec. 12: E½

T. 145 N., R. 88 W., 5th P.M.

Sec. 4: Lots 1, 2, 3, 4, S½N½, SE¼, S½SW¼

Sec. 10: N½

Sec. 14: All

Sec. 22: All

Sec. 26: N½NE¼, SW¼NE¼, NW¼SE¼, W½

Sec. 28: E½NE¼, SW¼NE¼, SE¼NW¼, S½

Sec. 34: N½N½, SE¼NE¼, E½SE¼, SW¼SE¼, SW¼

Containing 5,571 acres (more or less), Mercer County, North Dakota.

The Federal coal tract being considered for leasing is in the West Mine Area of the Freedom Mine, located north and west of Beulah, North Dakota. The operator (Coteau Properties Company) of this mine applied to lease the tract as a maintenance tract, to extend the life of their existing mining operation under the provisions of the Leasing By Application regulations at 43 CFR 3425.

Private & State coal reserves within the West Mine Area currently have an approval to mine, and a reclamation plan from the Public Service Commission, State of North Dakota. Coteau Properties Company also has an approved air quality permit for operations at the Freedom Mine. The Draft Environmental Impact Statement (DEIS) was available for public review from April 30, 2004, to June 29, 2004. The EPA and the BLM each published a Notice of Availability in the Federal Register on April 30 and May 7, 2004, respectively. A formal public hearing on this application was held pursuant to 43 CFR 3425.4 on Wednesday June 23, 2004, at the Heritage Center, Bismarck, North Dakota. The purpose of the hearing was to solicit public comments on the DEIS, the fair market value, the maximum economic recovery, and the proposed competitive sale of coal included in the proposed tract. Three public meetings were also held on Tuesday June 1, 2004, at 4 Bears Casino & Lodge, New Town, North Dakota; on Wednesday June 2, 2004, at the Civic Center, Beulah, North Dakota; and on Thursday June 3, 2004, at Prairie Knights Casino & Lodge, Fort Yates, North Dakota. The purpose of the meetings was to present the DEIS to the public and to solicit comments regarding the DEIS. The 60-day comment period on the DEIS ended on June 29, 2004. All comments were considered during the preparation of the final EIS.

The draft and final EIS analyze leasing the tract as applied for. To avoid bypassing coal or to increase competitive interest in the unleased Federal coal in this area, BLM identified and evaluated other tract configurations. The tract configuration that BLM has identified as the preferred configuration is described and analyzed as alternative C in the EIS. The EIS also analyzes the alternative of rejecting the application to lease Federal coals (the No Action Alternative).

To protect cultural values a small portion of Federal coal was bypassed. This preferred alternative was selected in consultation with American Indian Tribes. The Proposed Actions and Alternatives that are considered in the EIS are in conformance with the “Approved Resource Management Plan for Public Lands Administered by the Bureau of Land Management North Dakota Field Office” (1987).

The Office of Surface Mining Reclamation and Enforcement (OSM) is a cooperating agency in the preparation of this EIS. If the tract is leased as a maintenance tract, the new lease must be incorporated into the existing mining and reclamation plan for the Freedom Mine and the Secretary of the Interior must approve each revision to the MLA (Mineral Leasing Act) mining plan for the mine before the Federal coal can be mined. OSM is the Federal agency that would be responsible for recommending approval, approval with conditions, or disapproval of the revised MLA mining plan to the office of the Secretary of the Interior if these tracts are leased.

A Record of Decision (ROD) will be prepared for the LBA tract being considered for leasing. Comments received on the FEIS will be considered during preparation of the ROD. Comments, including names and street addresses of respondents, will be available for public review at the Bureau of Land Management, North Dakota Field Office, 2933 Third Avenue West, Dickinson, North Dakota, during regular business hours (8 a.m. to 4:30 p.m.), Monday through Friday, except holidays.

[Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be made available for public inspection in their entirety.]

Karen A. Wolf,
Acting Field Manager.

[FR Doc. 05-17502 Filed 9-1-05; 8:45 am]

BILLING CODE 4310-$$-P